DEPARTMENT OF DEFENSE

Office of the Secretary

[Transmittal No. 24-38]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-38 and Policy Justification.

Dated: January 29, 2026.
Stephanie J. Bost,
Alternate OSD Federal Register Liaison Officer, Department of Defense.

BILLING CODE 6001-FR-P

BILLING CODE 6001-FR-C

Transmittal No. 24-38

Notice of Proposed Issuance of Letter of Offer Pursuant to Section 36(b)(1) of the Arms Export Control Act

(i) Prospective Purchaser: Government of Israel

(ii) Total Estimated Value:

Major Defense Equipment * | $ 0
Other | $295 million
TOTAL | $295 million

Funding Source: Foreign Military Financing

(iii) Description and Quantity or Quantities of Articles or Services under Consideration for Purchase:

Major Defense Equipment (MDE):

None

Non-MDE:

D9R and D9T Caterpillar bulldozers; spare and repair parts; corrosion protection; publications and technical documentation; pre-delivery inspections; United States (U.S.) Government and contractor support; technical and logistics support services; storage; and other related elements of logistics and program support.

(iv) Military Department: Army (IS-B-ZZX)

(v) Prior Related Cases, if any: IS-B-ZEU; IS-B-ZLT; IS-B-ZYS

(vi) Sales Commission, Fee, etc., Paid, Offered, or Agreed to be Paid: None known at this time

(vii) Sensitivity of Technology Contained in the Defense Article or Defense Services Proposed to be Sold: None

(viii) Date Report Delivered to Congress: February 28, 2025

* as defined in Section 47(6) of the Arms Export Control Act.

POLICY JUSTIFICATION

Israel—Caterpillar D9 Bulldozers

The Government of Israel has requested to buy D9R and D9T Caterpillar bulldozers; spare and repair parts; corrosion protection; publications and technical documentation; pre-delivery inspections; U.S. Government and contractor support; technical and logistics support services; storage; and other related elements of logistics and program support. The estimated total cost is $295 million.

The U.S. is committed to the security of Israel, and it is vital to U.S. national interests to assist Israel to develop and maintain a strong and ready self-defense capability. This proposed sale is consistent with those objectives.

The proposed sale will improve Israel's capability to meet current and future threats by improving the ability of the Israeli Ground Forces to defend Israel's borders, vital infrastructure, and population centers. Israel will have no difficulty absorbing this equipment into its armed forces.

The proposed sale of this equipment and support will not alter the basic military balance in the region.

The principal contractor will be Caterpillar Inc., located in Irving, TX. At this time, the U.S. Government is not aware of any offset agreement proposed in connection with this potential sale. Any offset agreement will be defined in negotiations between the purchaser and the contractor.

Implementation of this proposed sale will not require the assignment of any additional U.S. Government or contractor representatives to Israel.

There will be no adverse impact on U.S. defense readiness as a result of this proposed sale.

[FR Doc. 2026-02063 Filed 1-30-26; 8:45 am]

BILLING CODE 6001-FR-P